DEPARTMENT OF TRANSPORTATION

Pipeline and Hazardous Materials Safety Administration

Actions on Special Permit Applications

AGENCY: Office of Hazardous Materials Safety, Pipeline and Hazardous Materials Safety Administration (PHMSA), DOT.

ACTION: Notice of actions on special permit applications.

SUMMARY: In accordance with the procedures governing the application for, and the processing of, special permits from the Department of Transportation's Hazardous Material Regulations (49 CFR part 107, subpart B), notice is hereby given of the actions on special permits applications in (October to October 2014). The mode of transportation involved are identified by a number in the “Nature of Application” portion of the table below as follows: 1—Motor vehicle, 2—Rail freight, 3—Cargo vessel, 4—Cargo aircraft only, 5—Passenger-carrying aircraft. Application numbers prefixed by the letters EE represent applications for Emergency Special Permits. It should be noted that some of the sections cited were those in effect at the time certain special permits were issued.

Issued in Washington, DC, on December 8, 2014.
Donald Burger,
Chief, Special Permits and Approval Branch.

S.P. No. | Applicant | Regulation(s) | Nature of special permit thereof
MODIFICATION SPECIAL PERMIT GRANTED
11150-M | Maine State Ferry Service Augusta, ME | 49 CFR 172.101 and 172.301(c) | To modify the special permit to authorize cylinders having a water capacity exceeding 100 pounds.
9610-M | Alliant Techsystems Operations LLC Eden Prairie, MN | 49 CFR 172.201(c), Subpart F of Part 172, 172.301(c), 172.203(a), 174.59, and 174.61(a) | To modify the special permit to authorize Class I smokeless powder UN0161 in combination packaging.
14506-M | SLR International Corporation Bothell, WA | 49 CFR 173.4(a)(1)(i), 173.4a(c) and (d) | To modify the special permit to authorize inner packagings without the removable closure secured in place, and all shipments not necessarily be packaged identically but similarly.
15448-M | U.S. Department of Defense Scott AFB, IL | 49 CFR 172.320, 173.51, 173.56, 173.57 and 173.58 | To modify the special permit to authorize packagings that have not been specifically approved.
14919-M | TK Holdings Inc. Armada, MI | 49 CFR 173.301(a), 173.302a, and 178.65(f)(2) | To modify the special permit to remove the specifications for cylinder sizes and water capacities.
14447-M | Taminco US Inc Allentown, PA | 49 CPR 177.834(i), 172.203(a), and 172.302(c) | To modify the special permit to authorize the addition of Division 2.1, new Division 6.1, and new Class 3 and 8 materials.
NEW SPECIAL PERMIT GRANTED
16218-N | Mountain Blade Runner, LLC Montrose, CO | 49 CFR 172.101, Column (9B), 172.204(c)(3), 173.27(6)(2), 175.30(a)(1) 172.200, 172.301(c), Part 178 and 175.75 | To authorize the transportation in commerce of certain hazardous materials by 14 CFR part 133. Rotorcraft External Load Operations transporting hazardous materials attached to or suspended from an aircraft, in remote areas of the US only, without being subject to hazard communication requirements, quantity limitations and certain loading and stowage requirements. (mode 4).
16267-N | Korean Air Los Angeles, CA | 49 CFR 172.101 Column (9B), 172.204(c)(3), 173.27, and 175.30(a)(1) | To authorize the one-time transportation in commerce of certain explosives that are forbidden for transportation by cargo only aircraft. (mode 4).
15955-N | Thompson Tank, Inc. Lakewood, CA | 49 CFR 173.315 | To authorize the manufacture, marking, sale and use of non-DOT specification cargo tanks manufactured to ASME Section XII stamped with a “T” Stamp instead of the “U” stamp. (mode 1).
1597I-N | National Aeronautics and Space Administration (NASA) Houston, TX | 49 CFR 173.301(a)(1), 173.301(a)(2), 173.301(0(1, 173.302(a) and 173.302a(a) | To authorize the transportation in commerce of non-DOT specification pressure receptacles containing nitrogen, compressed. (modes 1, 2, 3, 4).
15973-N | Codman & Shurtleff, Inc. Raynham, MA | 49 CFR parts 171-180 | To authorize the transportation in commerce of small amounts of butane contained within a Medstream Pump as unregulated. (modes 4, 5).
16022-N | Zhejiang Juhua Equipment Manufacturing Co., Ltd. Quzhou, Zhejiang | 49 CFR 178.274(b), 178.276(6)(1) and 178.276(a)(2) | To authorize the manufacture, marking, sale and use of non-DOT specification portable tanks mounted within an ISO frame that have been designed, constructed and stamped in accordance with Section VIII, Division 2 of the ASME Code. (modes 1, 2, 3).
16103-N | Insituform Technologies, LLC Chesterfield, MO | 49 CFR 173.203 and 173.242 | To authorize the transportation in commerce of resin-impregnated, coated polyester felt tubing used as a means of restoring structural integrity to aging or damaged wastewater, potable water and industrial pipelines through use of a trenchless, cured-in-place pipe (“CIPP”) technology. (mode 1).
16142-N | Nantong CIMC Tank Equipment Co. Ltd. Jiangsu, Province | 49 CFR 178.274(6) and 178.276(6)(1) | To authorize the manufacture, marking, sale and use of UN T75 Code portable tanks that are designed, constructed, certified and stamped in accordance with Section VIII Division 1, latest edition of the ASME Code. (modes 1, 2, 3).
16163-N | The Dow Chemical Company Midland, MI | 49 CFR 180.605(h)(3) | To authorize that the required 5 year periodic pressure test on UN portable tanks used in the transport of a Division 4.3 material be performed pneumatically (with nitrogen) rather than with water. (modes 1, 2, 3, 4).
16172-N | Entegris, Inc. Danbury, CT | 49 CFR 173.301(f) | To authorize the transportation in commerce of a Zone B toxic by inhalation gas in a DOT3AA cylinder that is fitted with an alternative pressure relief device. (modes 1, 3).
16178-N | National Aeronautics and Space Administration (NASA) Washington, DC | 49 CFR 173.302a | To authorize the transportation in commerce of compressed gases in non-DOT specification cylinders. (modes 1, 3).
EMERGENCY SPECIAL PERMIT GRANTED
16108-M | Carleton Technologies Inc. Westminster, MD | 49 CFR 173.302a, 173.304a and 180.205 | To modify the special permit to bring it in line with SIO 11119-2 and DOT-SP 14756. (modes 1, 2, 3, 4, 5).
15999-M | National Aeronautics and Space Administration (NASA) Washington, DC | 49 CFR parts 172 and 173 | To modify the special permit by adding a Division 1.4S material (modes 1, 3).
16263-M | Kalitta Air, LLC Ypsilanti, MI | 49 CFR 172.101 Column (9B), 172.204(c)(3), 173.27(b)(2) and (3) and 175.30(a)(1) | (mode 4).
16263-M | Kalitta Air, LLC Ypsilanti, MI | 49 CFR 172.101 Column (9B), 172.204(c)(3), 173.27(b)(2) and (3) and 175.30(a)(1) | (mode 4).
16219-N | Structural Composites Industries (SCI) Pomona, CA | 49 CFR 173.302a and 173.304a | To authorize the manufacture, marking, sale and use of aluminum-lined carbon-fiber composite cylinders for use in transporting certain Division 2.1 and 2.2 hazardous materials. (modes 1, 2, 3, 4).
16311-N | Raytheon Missile Systems Tucson, AR | 49 CFR 172.101 Column (9B), 172.204(c)(3), 173.27(b)(2) and (3) | To authorize the offering in air transportation of certain Class I explosives which are forbidden or exceed the quantity limitations authorized for transportation by cargo aircraft. (mode 4).
16170-N | Hydro Stat LLC Holly, MI | 49 CFR 180.213(b)(2) | To authorize the removal of certain requalification markings from DOT-3AL cylinders that have previously been retested in accordance with DOT-SP 14546 or DOT-SP 14854, to allow them to be returned to a 5 year hydrostatic retest schedule and eliminate the need for quality control for the gases to be used. (modes 1, 2, 3, 4, 5).

DENIED
16289-N | Request by NYS Department of Environmental Conservation Albany, NY November 21, 2014. To authorize the transportation in commerce of ebola contaminated waste in alternative packaging.

[FR Doc. 2014-30546 Filed 1-6-15; 8:45 am]

BILLING CODE 4910-60-M